NATIONAL AERONAUTICS AND SPACE ADMINISTRATION

[Notice (15-027)]

Notice of Intent To Grant an Exclusive License

AGENCY: National Aeronautics and Space Administration.

ACTION: Notice of Intent to Grant an Exclusive License.

SUMMARY: This notice is issued in accordance with 35 U.S.C. 209(e) and 37 CFR 404.7(a)(1)(i). NASA hereby gives notice of its intent to grant an exclusive license in the United States to practice the invention described and claimed in the following U.S. Patent Applications:

“USPN 7,412,175, Millimeter Wave Polarization Transformer, NASA Case No. GSC-15027-1; USPN 7,465,926, Miniaturized Radiation Spectrometer Development, GSC-15115-1; USPN 7,504,921, Stepping Flextures, GSC-14562-1; USPN 7,513,546, Conformal Gripper, GSC-14952-1; USPN 7,544,146, Anti-Backlash Gear-Bearings, GSC-14603-1; USPN 7,601,091, Modular Gear Bearing, GSC-14979-1; USPN 7,609,978, INTERFEROMETRIC POLARIZATION CONTROL, GSC-15027-2; USPN 7,616,903, INTERFEROMETRIC POLARIZATION CONTROL, GSC-15027-3; USPN 7,622,907, Driven Ground, GSC-15042-1; USPN 7,635,832, Iterative-Transform Phase-Retrieval Utilizing Adaptive Diversity, GSC-14879-1; USPN 7,735,385, Actuated Ball and Socket Joint, GSC-15417-1; USPN 7,746,190, Broadband High Spurious-suppression Microwave Waveguide Filter For Polarization-preserving And Transformer, GSC-15055-1; USPN 7,762,155, Gear Bearings, GSC-14480-2; USPN 7,811,406, Advanced Adhesive Bond Shape Tailoring for Large Composite Primary Structures Subjected to Cryogenic and Ambient Loading Environments, GSC-15377-1; USPN 7,817,087, Relative Spacecraft Navigation using Reflected GPS Signals, GSC-15483-1; USPN 7,830,527, Method And Apparatus For Second Harmonic Generation And Other Frequency Convertion With Multiple Frequency Channels, GSC-15349-1; USPN 7,970,025, Tunable Frequency-stabilized Laser via Offset Sideband Locking, GSC-15583-1; USPN 7,982,861, Pseudo-Noise Code Modulation using Return to Zero pulses for Ranging, Altimetry and Communications, GSC-15445-1; USPN 8,155,939, Hughes Particle &#8211; Surface Interaction Model; Surface Interaction Model, GSC-15364-1; USPN 8,160,728, Sensor Complete Requirements Algorithm For Autonomous Mobility, GSC-15527-1; USPN 8,275,724, A biologically-inspired method of improving system performance and survivability through self-sacrifice, GSC-15550-1; USPN 8,275,015, Passively Q-switched side pumped Monolithic Ring Laser, GSC-15724-1; USPN 8,274,726, Sampling and Reconstruction of the Sinc(x) Function, GSC-15947-1; USPN 8,285,401, Discrete Fourier Transform (DFT) Analysis in a Complex Vector Space, GSC-15684-1; USPN 8,331,733, Sampling Theorem in Terms of the Bandwidth and Sampling Interval, GSC-15685-1; USPN 8,330,644, Expandable Reconfigurable Instrument Node—Web Sensor Strand Demonstration, GSC-15692-1; USPN 8,354,952, Phase Retrieval for Radio Telescope and Antenna Control, GSC-15977-1; USPN 8,406,469, Progressive Band Selection for Hyperspectral Images, GSC-15792-1; USPN 8,484,274, Optimal Padding for the Two-Dimensional Fast Fourier Transform, GSC-15678-1; USPN 8,499,779, Non-Pyrotechnic Zero-Leak Normally-Closed Valve, GSC-15328-1; USPN 8,687,742, Ensemble Detector, GSC-15774-1; USPN 8,816,884, Vectorized Rebinning Algorithm for Fast Data Down-Sampling, GSC-15949-1; USPN 8,816,273, A High Event Rate, Zero Dead Time, Multi-Stop Time-to-digital Converter Application Specific Integrated Circuit, GSC-16182-1; USPN 8,898,479, INTEGRATED GENOMIC AND PROTEOMIC INFORMATION SECURITY PROTOCOL, GSC-16545-1.”

To Ocean Tomo Federal Services having its principal place of business in Bethesda, MD. The patent rights in this invention have been assigned to the United States of America as represented by the Administrator of the National Aeronautics and Space Administration. The exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Mr. Bryan A. Geurts, Chief Patent Counsel/140.1, Goddard Space Flight Center, Greenbelt, MD 20771, (301) 286-7351.

FOR FURTHER INFORMATION CONTACT: Alfred T. Mecum, Innovative Partnerships Program Office/504, Goddard Space Flight Center, Greenbelt, MD 20771 (301) 286-5810. Information about other NASA inventions available for licensing can be found online at http://technology.nasa.gov/.

Sumara M. Thompson-King,
General Counsel.

[FR Doc. 2015-08077 Filed 4-7-15; 8:45 am]

BILLING CODE 7510-13-P